DEPARTMENT OF TRANSPORTATION

Federal Aviation Administration

Ninety-Third Meeting: RTCA Special Committee 159, Global Positioning Systems (GPS)

AGENCY: Federal Aviation Administration (FAA), U.S. Department of Transportation (DOT).

ACTION: Meeting notice of RTCA Special Committee 159, Global Positioning Systems (GPS).

SUMMARY: The FAA is issuing this notice to advise the public of the ninety-third meeting of the RTCA Special Committee 159, Global Positioning Systems (GPS).

DATES: The meeting will be held March 16-20, 2015 from 9:00 a.m.-5:00 p.m.

ADDRESSES: The meeting will be held at RTCA, Inc., 1150 18th Street NW., Suite 910, Washington, DC 20036

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 159. The agenda will include the following:

Working Group Sessions

March 16

• All day, Working Group 2, GPS/WAAS, MacIntosh—NBAA Room and Colson Board Rooms

March 17

• All Day, Working Group 4, GPS/Precision Landing, MacIntosh—NBAA Room

• Afternoon—1:00-5:00 p.m. Working Group 2C, GPS/Inertial, Colson Board Room

March 18

• All Day, Working Group 4, GPS/Precision Landing, MacIntosh—NBAA Room

• All Day, Working Group 2C, GPS/Inertial, Garmin Room

• Afternoon—1:00-5:00 p.m., Working Group 6, GPS/Interference, Colson Board Room

March 19

• All Day, Working Group 4, GPS/GPS/Precision Landing Guidance MacIntosh—NBAA Room

• All Day, Working Group 2C, GPS/Inertial, Garmin Room

• Morning—9:00-12:00/Noon p.m., Working Group 6, GPS/Interference, Colson Board Room

• Afternoon—1:00-5:00 p.m. Working Group 7, GPS/Antennas, Colson Board Room

March 20

• Chairman's Introductory Remarks

• Approval of Summary of the Ninety-Second Meeting held October 10, 2014, RTCA Paper No. 229-14/SC159-1022

• Review Working Group (WG) Progress and Identify Issues for Resolution

○ GPS/3rd Civil Frequency (WG-1)

○ GPS/WAAS (WG-2)

○ GPS/GLONASS (WG-2A)

○ GPS/Inertial (WG-2C)

○ GPS/Precision Landing Guidance (WG-4)

○ GPS/Airport Surface Surveillance (WG-5)

○ GPS/Interference (WG-6)

○ GPS/Antennas (WG-7)

• Review of EUROCAE Activities

• Review/Approve Response to FAA's GPS Adjacent-Band Compatibility Study Methodology and Assumptions

• SC-159 Terms of Reference—Review/Approve Update

• GLONASS MOPS—Third Draft—Discussion

• GNSS Intentional Interference and Spoofing Study Team (GIISST)—Briefing

• Assignment/Review of Future Work

• Other Business

• Date and Place of Next Meeting

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 24, 2015.
Mohannad Dawoud
Management Analyst, NextGen, Program Oversight and Administration, Federal Aviation Administration.

[FR Doc. 2015-04297 Filed 2-27-15; 8:45 am]

BILLING CODE 4910-13-P